DEPARTMENT OF ENERGY

Federal Energy Regulatory Commission

[Docket No. ER03-713-003, et al.]

Southern Power Company, et al.; Electric Rate and Corporate Filings

May 24, 2004.

The following filings have been made with the Commission. The filings are listed in ascending order within each docket classification.

1. Southern Power Company

[Docket No. ER03-713-003]

Take notice that on May 20, 2004, Southern Power Company (Southern Power) submitted a notice of cancellation of rates accepted for filing in the above-captioned dockets and any rate schedules or rate schedule designations assigned to such agreements. Southern Power also requests that the Commission approve the withdrawal of its application for approval of the McIntosh Power Purchase Agreements (PPAs) in the above-captioned dockets. Finally, Southern Power requests that the Commission terminate the above-captioned proceedings. The Commission invites comment on these requests and whether there are issues that were raised in the above-captioned dockets that remain unresolved despite Southern Power's request to withdraw the McIntosh PPAs.

Comment Date: June 9, 2004.

2. California Independent System Operator Corporation

[Docket No. ER03-1102-003]

Take notice that on May 20, 2004, the California Independent System Operator Corporation (ISO) submitted a filing to comply with the Commission's February 20, 2004, Order in Docket No. ER03-1102-000 concerning Amendment No. 55 to the ISO Tariff, 106 FERC ¶ 61,179 (Compliance Order). The ISO states that in drafting this compliance filing, it has taken into account the direction provided in the Commission's May 6, 2004, Order on rehearing of the Compliance Order, 107 FERC ¶ 61,118.

The ISO states that it has served copies of this letter, and all attachments, upon all parties on the official service list for the captioned docket. In addition, the ISO is posting this transmittal letter and all attachments on the ISO home page.

Comment Date: June 10, 2004.

3. Southern Company Services, Inc.

[Docket No. ER04-563-001]

Take notice that on May 19, 2004, Southern Company Services, Inc., acting as agent for Alabama Power Company, Georgia Power Company, Gulf Power Company, Mississippi Power Company, and Savannah Electric and Power Company (collectively Southern Companies), filed with the Federal Energy Regulatory Commission a response to a letter issued by the Commission requesting additional information concerning Southern Companies' filing of a long-term firm point-to-point transmission service agreement under their Open Access Transmission Tariff (FERC Electric Tariff, Fourth Revised Volume No. 5) between Southern Companies and Calpine Energy Services, L.P. Southern Companies state that the agreement is designated Service Agreement No. 466 under Southern Companies' Tariff.

Comment Date: June 9, 2004.

4. Tor Power, LLC

[Docket No. ER04-698-002]

Take notice that on May 19, 2004, Tor Power, LLC (Tor) tendered for filing a Revision to Market-rate Authority Application. Tor filed a petition for acceptance of its initial rate schedule for market-based authority on April 1, 2004, and the Commission issued a notice for this application on April 7, 2004. On May 13, 2004, the Commission issued an order directing Tor and other entities that had pending applications for initial market-based rate authority to make certain revised filings. Tor states that it is submitting the instant filing in response to the Commission's May 13 order. Tor further states that the instant filing does not present material issues of market power and is not affiliated with entities that own or control generation or transmission.

Comment Date: June 1, 2004.

5. Access Energy Cooperative

[Docket No. ER04-856-000]

Take notice that on May 20, 2004, Access Energy Cooperative (AEC) tendered for filing with the Federal Energy Regulatory Commission pursuant to 18 CFR 35.13, its 2004 annual rate redetermination informational filing in accordance with section 1.05 of its FERC Rate Schedule No. 1. AEC's states that this filing is available for public inspection at its offices in Mt. Pleasant, Iowa.

AEC further states that copies of this filing have been served upon its transmission customer and the Iowa State Utilities Board.

Comment Date: June 10, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1255 Filed 6-3-04; 8:45 am]

BILLING CODE 6717-01-P